DEPARTMENT OF COMMERCE

International Trade Administration

[A-570-868]

Folding Metal Tables and Chairs From the People's Republic of China: Notice of Extension of Time Limit for Preliminary Results in the Second Antidumping Duty Administrative Review

AGENCY: Import Administration, International Trade Administration, Department of Commerce.

DATES: Effective Date: February 15, 2005.

FOR FURTHER INFORMATION CONTACT: Stephen Berlinguette at (202) 482-3740, or Amber Musser at (202) 482-1777, AD/CVD Operations, Office 9, Import Administration, International Trade Administration, U.S. Department of Commerce, 14th Street and Constitution Avenue, NW., Washington, DC 20230.

Extension of Time Limit

Pursuant to section 751(a)(3)(A) of the Tariff Act of 1930, as amended (“the Act”), the Department of Commerce (“the Department”) shall make a preliminary determination in an administrative review of an antidumping duty order within 245 days after the last day of the anniversary month of the date of publication of the order. The Act further provides, however, that the Department may extend that 245-day period to 365 days if it determines it is not practicable to complete the review within the foregoing time period. The Department finds that it is not practicable to complete the preliminary results in the administrative review of folding metal tables and chairs from the PRC within this time limit. Specifically, due to resource constraints and the number of issues in this review, we find that additional time is needed in order to complete these preliminary results. Therefore, in accordance with section 751(a)(3)(A) of the Act, the Department is extending the time for completion of the preliminary results of this review until June 30, 2005.

Dated: February 9, 2005.
Barbara E. Tillman,
Acting Deputy Assistant Secretary for Import Administration.

[FR Doc. E5-629 Filed 2-14-05; 8:45 am]

BILLING CODE 3510-DS-P